COUNCIL ON ENVIRONMENTAL QUALITY

[CEQ-2022-0005]

RIN 0331-AA06

National Environmental Policy Act Guidance on Consideration of Greenhouse Gas Emissions and Climate Change

AGENCY: Council on Environmental Quality.

ACTION: Notice of extension for request for comments.

SUMMARY: On January 9, 2023, the Council on Environmental Quality (CEQ) issued guidance to assist agencies in analyzing greenhouse gas and climate change effects of their proposed actions under the National Environmental Policy Act and requested public comment on the guidance. This notice extends the deadline date for receiving public comments for an additional 30 days, until April 10, 2023.

DATES: The comment period for the interim guidance published January 9, 2023, at 88 FR 1196, is extended. Comments should be received on or before by April 10, 2023.

ADDRESSES: You may submit comments, identified by docket number CEQ-2022-0005, by any of the following methods:

• Federal eRulemaking Portal: https://www.regulations.gov. Follow the instructions for submitting comments.

• Fax: 202-456-6546.

• Mail: Council on Environmental Quality, 730 Jackson Place NW, Washington, DC 20503.

All submissions received must include the agency name, “Council on Environmental Quality,” and the docket number, CEQ-2022-0005. All comments received will be posted without change to https://www.regulations.gov, including any personal information provided. Do not submit electronically any information you consider to be private, Confidential Business Information (CBI), or other information, the disclosure of which is restricted by statute.

FOR FURTHER INFORMATION CONTACT: Jomar Maldonado, Director for NEPA, 202-395-5750 or Jomar.MaldonadoVazquez@ceq.eop.gov.

SUPPLEMENTARY INFORMATION: On January 9, 2023, CEQ issued National Environmental Policy Act Guidance on Consideration of Greenhouse Gas Emissions and Climate Change, interim guidance to assist agencies in analyzing greenhouse gas and climate change effects of their proposed actions under the National Environmental Policy Act and requested public comment for 60 days on the guidance. 88 FR 1196. This notice extends the period for receiving public comments by 30 days to provide the public with additional time to provide feedback. CEQ is providing this additional time in response to public requests for an extension of the response period. Public comments should be submitted on or before April 10, 2023.

Matthew G. Lee-Ashley,
Chief of Staff.

[FR Doc. 2023-03257 Filed 2-15-23; 8:45 am]

BILLING CODE 3325-F3-P